DEPARTMENT OF TRANSPORTATION

Federal Aviation Administration

Draft FAA Transition Plan to Unleaded Aviation Gasoline; Correction

AGENCY: Federal Aviation Administration (FAA), Department of Transportation (DOT).

ACTION: Notice; correction.

SUMMARY: The FAA published a Draft FAA Transition Plan to Unleaded Aviation Gasoline in the Federal Register on January 12, 2026, (FR Doc.ID 2026-00296) and requested comments. This document contained an incomplete website link under the “Addresses” caption. It also contained incorrect phone numbers under the “For Further Information Contact” caption.

CORRECTION CONTACT: Paul Wrzesinski, Email: Paul.J.Wrzesinski@faa.gov.

SUPPLEMENTARY INFORMATION:

Correction

(1) In the Federal Register of January 12, 2026, in FR Doc. ID 2026-00296, on page 1, paragraph 5, correct the ADDRESSES caption to read:

Draft FAA Transition Plan to Unleaded Aviation Gasoline document can be viewed and receive comment submissions through the FAA's Aviation Safety Draft Documents website, https://www.faa.gov/aircraft/draft_docs/pubs. Scroll down for “Draft FAA Transition Plan to Unleaded Aviation Gasoline.” Select “Draft Document” to view the Plan. Download “Comment Matrix,” input comments, and email an updated Comments Matrix to: 9-AVS-AIR670-AVGAS@faa.gov.

(2) In the Federal Register of January 12, 2026, in FR Doc. ID 2026-00296, on page 1, paragraph 6, correct the FOR FURTHER INFORMATION CONTACT caption to read:

Paul Wrzesinski, Ph.D., FAA Office of Senior Technical Experts, Aircraft Certification Service, 800 Independence Avenue SW, Washington, DC 20591, Email: Paul.J.Wrzesinski@faa.gov.

Alternate contact: Maria DiPasquantonio, FAA Office of Senior Technical Experts, Aircraft Certification Service, 800 Independence Avenue SW, Washington, DC 20591, Email: Maria.DiPasquantonio@faa.gov.

Issued in Washington, DC on January 13, 2026.
Mallory A. Naill,
Acting Deputy Executive Director, Aircraft Certification Service.

[FR Doc. 2026-00836 Filed 1-15-26; 8:45 am]

BILLING CODE 4910-13-P